SURFACE TRANSPORTATION BOARD

[Docket No. FD 36857]

Railmark Industrial Railway Inc.—Operation Exemption—in DeSoto and Red River Parishes, La.

Railmark Industrial Railway Inc. (RIR), a Class III rail carrier, has filed a verified notice of exemption under 49 CFR 1150.41 to operate as a common carrier approximately nine miles of existing private track owned by Cleco Power LLC (Cleco), extending from the Union Pacific Railroad Company switch near Grand Bayou in Red River Parish, La., to the Dolet Hills Power Station in DeSoto Parish, La. (the Line).¹ The verified notice states that RIR will serve Cleco's Dolet Hills Power Station at its present location and any other customers that may locate on the Line.

¹ According to the verified notice, there are no mileposts because the Line has been used as private industry track.

According to the verified notice, RIR has entered into an agreement with Cleco for RIR to operate the Line as a common carrier.² RIR states that it will market the Line under the name Railmark Industrial Railway Inc. Louisiana Division to differentiate it from another line RIR leases and operates in Mississippi. See Railmark Indus. Ry.—Change in Operator Exemption—Miss. Cent. R.R., FD 36773 (STB served May 22, 2024).

² RIR states that the agreement also grants RIR the right to operate spur and sidetrack located within the Cleco Dolet Hills Power Station and that RIR will operate this additional track as 49 U.S.C. 10906 track.

The verified notice states that no interchange commitments are being imposed on RIR's operations. RIR certifies that its projected annual revenues will not exceed those that would qualify it as a Class III carrier and will not exceed $5 million.

The transaction may be consummated on or after June 26, 2025, the effective date of the exemption (30 days after the verified notice was filed).³

³ RIR filed a supplement on May 27, 2025, which is therefore deemed the filing date of the verified notice.

If the verified notice contains false or misleading information, the exemption is void ab initio. Petitions to revoke the exemption under 49 U.S.C. 10502(d) may be filed at any time. The filing of a petition to revoke will not automatically stay the effectiveness of the exemption. Petitions for stay must be filed no later than June 18, 2025 (at least seven days before the exemption becomes effective).

All pleadings, referring to Docket No. FD 36857, must be filed with the Surface Transportation Board either via e-filing on the Board's website or in writing addressed to 395 E Street SW, Washington, DC 20423-0001. In addition, a copy of each pleading must be served on RIR's representative, Justin J. Marks, Clark Hill PLC, 1001 Pennsylvania Ave. NW, Suite 1300 South, Washington, DC 20004.

According to RIR, this action is categorically excluded from environmental review under 49 CFR 1105.6(c) and from historic preservation reporting requirements under 49 CFR 1105.8(b)(1).

Board decisions and notices are available at www.stb.gov.

Decided: May 28, 2025.
By the Board, Scott M. Zimmerman, Acting Director, Office of Proceedings.
Stefan Rice,
Clearance Clerk.

[FR Doc. 2025-10057 Filed 6-2-25; 8:45 am]

BILLING CODE 4915-01-P